DEPARTMENT OF ENERGY

Environmental Management Site-Specific Advisory Board, Los Alamos

AGENCY: Department of Energy.

ACTION: Notice of open meeting; correction.

On May 9, 2000, the Department of Energy published a notice of open meeting announcing a meeting on May 24, 2000 of the Environmental Management Site-Specific Advisory Board, Los Alamos (65 FR 26824). In that notice the meeting address was Highlands University, Kennedy Hall, 11th Street and University Avenue, Las Vegas, New Mexico. Today's notice is announcing that the meeting address has changed due to the fires at Los Alamos. The new meeting address is 2040 South Pacheco Street, Santa Fe, New Mexico 87505.

Issued in Washington, DC on May 16, 2000.
Rachel M. Samuel,
Deputy Advisory Committee Management Officer.

[FR Doc. 00-12748 Filed 5-18-00; 8:45 am]

BILLING CODE 6450-01-P